DEPARTMENT OF ENERGY

Federal Energy Regulatory Commission

[Docket Nos. OR98-1-000, OR96-2-000, and OR06-10-000]

ARCO Products Company, a Division of Atlantic Richfield Company, Equilon Enterprises L.L.C., Mobil Oil Corporation, and Texaco Refining and Marketing, Inc., Complainants v. SFPP, L.P., Respondent; Notice of Second Amended Complaint, and Third Original Complaint Against SFPP, L.P.

January 28, 2000.

Take notice that on January 10, 2000, ARCO Products Company, a Division of Atlantic Richfield Company, Equilon Enterprises, LLC, a successor in interest to Texaco Refining and Marketing, Inc., and Mobile Oil Corporation (Complainants) tendered for filing a complaint alleging that there are reasonable grounds to believe that all of the rates of SFPP. LP. subject to the jurisdiction of the Commission and not just and reasonable. According to Complainants, the overcharges are 40% of the current cost of service and revenue requirements, or a minimum of $75,000.000 a year.

Complainants further allege that, to the extent any of the rates are subject to a threshold “changed circumstances standard” pursuant to the EP Act of 1992, this threshold is met.

Complainants allege they are aggrieved and damaged by the unlawful acts of SFPP, L.P. and seek relief in the form of reduced rates in the future and reparations for past and current overcharges, with interest.

This complaint incorporates, and constitutes, a second amendment to the Second Amended Compliant filed this same day in related dockets that the Commission has heretofore held in abeyance, the same being Docket Nos. OR98-1-000, OR96-2-000, and OR96-10-000.

SFPP's motion for a further extension of time filed on January 24, 2000 is denied.

Any person desiring to be heard or to protest said complaint should file a motion to intervene or a protest with the Federal Energy Regulatory Commission, 888 First Street, N.E., Washington, D.C. 20426, in accordance with Rules 214 and 211 of the Commission's Rules of Practice and Procedure 18 CFR 385.214, 385.211. All such motions or protests should be filed on or before February 14, 2000. Protests will be considered by the Commission in determining the appropriate action to be taken, but will not serve to make protestants parties to the proceeding. Any person wishing to become a party must file a motion to intervene. Copies of this filing are on file with the Commission and are available for public inspection. This filing may be viewed on the web at http://www/ferc/fed.us/online/rims.htm (call 202-208-2222 for assistance). Answers to this complaint shall be due on or before February 14, 2000.

David P. Boergers,
Secretary.

[FR Doc. 00-2368 Filed 2-2-00; 8:45 am]

BILLING CODE 6717-01-M